DEPARTMENT OF THE INTERIOR

Fish and Wildlife Service

50 CFR Part 17

[FWS-R4-ES-2009-0090; 92210-1111-0000 B2]

Endangered and Threatened Wildlife and Plants; Initiation of Status Review for Agave eggersiana and Solanum conocarpum

AGENCY: Fish and Wildlife Service, Interior.

ACTION: Initiation of status review and solicitation of new information.

SUMMARY: We, the U.S. Fish and Wildlife Service (Service), under the authority of the Endangered Species Act of 1973, as amended (Act), announce the initiation of a status review for Agave eggersiana (no common name) and Solanum conocarpum (no common name). We conduct status reviews to determine whether the entities should be listed as endangered or threatened under the Act. Through this action, we encourage all interested parties to provide us information regarding the status of, and any potential threat to, these plant species.

DATES: To allow us adequate time to conduct this review, we request that we receive information no later than February 19, 2010. After this date you must submit information directly to the Field Office (see FOR FUTHER INFORMATION CONTACT section below). Please note that we may not be able to address or incorporate information that we receive after the above requested date.

ADDRESSES: You may submit information by one of the following methods:

• Federal eRulemaking Portal: http://www.regulations.gov. Search for docket FWS-R4-ES-2009-0090 and then follow the instructions for submitting comments.

• U.S. mail or hand-delivery: Public Comments Processing, Attn: FWS-R4-ES-2009-0090; Division of Policy and Directives Management; U.S. Fish and Wildlife Service; 4401 N. Fairfax Drive, Suite 222; Arlington, VA 22203.

We will post all information on http://www.regulations.gov. This generally means that we will post any personal information you provide us (see the Information Solicited section below for more details).

FOR FURTHER INFORMATION CONTACT: Edwin Muniz, Field Supervisor, Caribbean Ecological Services Field Office , P.O. Box 491, Boqueró, Puerto Rico 00622, by telephone (787) 851-7297, or by facsimile (787) 851-7440. Persons who use a telecommunications device for the deaf (TDD) may call the Federal Information Relay Service (FIRS) at 800-877-8339.

SUPPLEMENTARY INFORMATION:

Information Solicited

To ensure that the status review is complete and based on the best available scientific and commercial information, we request information on Agave eggersiana (no common name) and Solanum conocarpum (no common name). We request any additional information from governmental agencies, Native American Tribes, the scientific community, industry, or any other interested parties. We seek information on:

(1) The species' biology, range, and population trends, including:

(a) Habitat requirements;

(b) Genetics and taxonomy;

(c) Historical and current range including distribution patterns;

(d) Historical and current population levels, and current and projected trends; and

(e) Past and ongoing conservation measures for the species and/or its habitat.

(2) The factors that are the basis for making a listing determination for a species under section 4(a) of the Endangered Species Act of 1973, as amended (Act (16 U.S.C. 1531 et seq.), which are:

(a) The present or threatened destruction, modification, or curtailment of the species' habitat or range;

(b) Overutilization for commercial, recreational, scientific, or educational purposes;

(c) Disease or predation;

(d) The inadequacy of existing regulatory mechanisms; or

(e) Other natural or manmade factors affecting its continued existence.

(3) Propagation and planting efforts conducted for these species in the U.S. Virgin Islands.

Please include sufficient information with your submission to allow us to verify any scientific or commercial information you include.

If, after the status review, we determine that listing A. eggersiana and S. conocarpum is warranted, we will propose critical habitat (see definition in section 3(5)(A) of the Act), as per section 4 of the Act, to the maximum extent prudent and determinable at the time we propose to list the species. Therefore, we also request specific comments and information as to what, if any, critical habitat you think should be proposed for designation if the species are proposed for listing, and why such habitat meets the requirements of the Act. Specifically, for areas within the geographical range currently occupied by these species, we request data on:

(1) The amount and distribution of A. eggersiana and S. conocarpum habitat;

(2) The physical and biological features of A. eggersiana and S. conocarpum habitat that are essential to the conservation of the species;

(3) Special management considerations or protections that the features essential to the conservation of A. eggersiana and S. conocarpum may require, including managing for the potential effects of climate change;

(4) Any areas that are essential to the conservation of A. eggersiana and S. conocarpum and why;

(5) Land use designations and current or planned activities in A. eggersiana and S. conocarpum habitats and their possible impacts on proposed critical habitat;

(6) Conservation programs and plans that protect A. eggersiana and S. conocarpum and their habitat; and,

(7) Whether we could improve or modify our approach to designating critical habitat in any way to provide for greater public participation and understanding, or to better accommodate public concerns and comments.

In addition, we request data and information on “specific areas outside the geographical area occupied by the species” that are “essential for the conservation of the species.”

Submissions merely stating support for or opposition to the action under consideration without providing supporting information, although noted, will not be considered in making a determination. Section 4(b)(1)(A) of the Act directs that determinations as to whether any species is a threatened or endangered species must be made “solely on the basis of the best scientific and commercial data available.”

You may submit your information concerning this status review by one of the methods listed in the ADDRESSES section. If you submit information via http://www.regulations.gov, your entire submission—including any personal identifying information—will be posted on the website. We will also post all hardcopy submissions on http://www.regulations.gov. If you submit a hardcopy that includes personal identifying information, you may request at the top of your document that we withhold this personal identifying information from public review. However, we cannot guarantee that we will be able to do so.

Information and supporting documentation that we received and used in preparing this finding, will be available for you to review at http://www.regulations.gov, or you may make an appointment during normal business hours at the U.S. Fish and Wildlife Service, Caribbean Ecological Services Field Office (see FOR FURTHER INFORMATION CONTACT).

Background

Section 4(b)(3)(B) of the Act requires that, for any petition to revise the Lists of Threatened and Endangered Wildlife and Plants that contains substantial scientific or commercial information that listing the species may be warranted, we make a finding within 12 months of the date of the receipt of the petition. In this finding, we determine whether the petitioned action is: (a) not warranted, (b) warranted, or (c) warranted but precluded by other pending proposals. We must publish these 12-month findings in the Federal Register.

Previous Federal Action

On November 21, 1996, we received a petition from the U.S. Virgin Islands Department of Planning and Natural Resources (DPNR) requesting that we list Agave eggersiana and Solanum conocarpum as endangered. On November 16, 1998, we published in the Federal Register (63 FR 63659) our finding that the petition to list A. eggersiana and S. conocarpum presented substantial information indicating that the requested action may be warranted and initiated a status review on these two plants. On September 1, 2004, the Center for Biological Diversity filed a lawsuit against the Department of the Interior and the Service alleging that the Service failed to publish a 12-month finding (Center for Biological Diversity v. Norton, Civil Action No. 1:04-CV-2553 CAP). In a Stipulated Settlement Agreement resolving that case, signed April 27, 2005, we agreed to submit our 12-month finding to the Federal Register by February 28, 2006.

On March 7, 2006, we published our 12-month finding (71 FR 11367) that listing of A. eggersiana and S. conocarpum was not warranted. We arrived at this finding because we did not have sufficient information to determine the true status of either A. eggersiana or S. conocarpum in the wild. Further, we could not determine if either species met the definition of threatened or endangered due to one or more of the five listing factors because we did not have sufficient evidence of which threats, if any, were affecting these species. On September 9, 2008, the Center for Biological Diversity filed a complaint challenging our 12-month finding (Center for Biological Diversity v. Hamilton, Case No. 1:08-cv-02830 -CAP). In a settlement agreement approved by the Court on August 21, 2009, the Service agreed to submit to the Federal Register a new 12-month finding for A. eggersiana by September 17, 2010, and a new 12-month finding for S. conocarpum by February 15, 2011.

This notice initiates a new status review for A. eggersiana and S. conocarpum; we are soliciting new information on the status of and potential threats to both species that will enable us to complete a review of the status of each species and the subsequent 12-month findings. We will base our new findings on a review of the best scientific and commercial information available, including all such information received as a result of this notice. For more information on the biology, habitat, and range of either species, please refer to our previous 90-day finding published in the Federal Register on November 16, 1998 (63 FR 63659), and our previous 12-month finding published in the Federal Register on March 7, 2006 (71 FR 11367).

Author

The primary author of this notice is the staff of the Caribbean Ecological Services Office, Boquerón, Puerto Rico.

Authority

The authority for this action is the Endangered Species Act of 1973, as amended (16 U.S.C. 1531 et seq.).

Dated: January 6, 2010
Daniel M. Ashe,
Acting Director, U.S. Fish and Wildlife Service

[FR Doc. 2010-870 Filed 1-19-10; 8:45 am]

BILLING CODE 4310-55-S